DEPARTMENT OF ENERGY

Federal Energy Regulatory Commission

18 CFR Part 35

[Docket No. AD20-6-000]

Request for Technical Conference and Petition for Rulemaking: Energy Trading Institute

AGENCY: Federal Energy Regulatory Commission, Department of Energy.

ACTION: Notice of request for technical conference and petition for rulemaking.

SUMMARY: The Federal Energy Regulatory Commission has received a petition from the Energy Trading Institute requesting that the Commission hold a technical conference and conduct a rulemaking to update the requirements adopted in Order No. 741 and Commission's regulations addressing credit and risk management in the markets operated by Independent System Operators and Regional Transmission Organizations.

DATES: Comments are due March 12, 2020.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE, Washington, DC 20426.

FOR FURTHER INFORMATION CONTACT:

Tina Ham (Legal Information), Office of the General Counsel, Federal Energy Regulatory Commission, 888 First Street NE, Washington, DC 20426, Telephone: (202) 502-8887, Tina.Ham@ferc.gov.

Michael Hill (Policy Information), Office of Energy Policy and Innovation, Federal Energy Regulatory Commission, 888 First Street NE, Washington, DC 20426, Telephone: (202) 502-8703, Michael.Hill@ferc.gov.

James Burchill (Policy Information), Office of Energy Policy and Innovation, Federal Energy Regulatory Commission, 888 First Street NE, Washington, DC 20426, Telephone: (202) 502-6144, James.Burchill@ferc.gov.

Anne Marie Hirschberger (Legal Information), Office of the General Counsel, Federal Energy Regulatory Commission, 888 First Street NE, Washington, DC 20426, Telephone: (202) 502-8387, AnneMarie.Hirschberger@ferc.gov.

SUPPLEMENTARY INFORMATION: On December 16, 2019, the Energy Trading Institute filed in the above-captioned docket a petition requesting that the Commission hold a technical conference and conduct a rulemaking to update the requirements adopted in Order No. 741 ¹ and section 35.47 of the Commission's regulations ² addressing credit and risk management in the markets operated by Independent System Operators and Regional Transmission Organizations.

¹ Credit Reforms in Organized Wholesale Electric Markets, Order No. 741, 133 FERC ¶ 61,060 (2010) (Order No. 741), order on reh'g, Order No. 741-A, 134 FERC ¶ 61,126 (2011), reh'g denied, Order No. 741-B, 135 FERC ¶ 61,242 (2011).

² 18 CFR 35.47 (2019).

Dated: February 11, 2020.
Kimberly D. Bose,
Secretary.

[FR Doc. 2020-03272 Filed 2-20-20; 8:45 am]

BILLING CODE 6717-01-P